DEPARTMENT OF THE INTERIOR

National Park Service

[N6673; NPS-WASO-NAGPRA-NPS0041413; PPWOCRADN0-PCU00RP14.R50000]

Notice of Inventory Completion: Baylor University's Mayborn Museum Complex, Waco, TX

AGENCY: National Park Service, Interior.

ACTION: Notice.

SUMMARY: In accordance with the Native American Graves Protection and Repatriation Act (NAGPRA), Baylor University's Mayborn Museum Complex (formerly Baylor University's Strecker Museum; formerly Baylor University Museum) has completed an inventory of human remains and associated funerary objects and has determined that there is no lineal descendant and no Indian Tribe or Native Hawaiian organization with cultural affiliation.

DATES: Upon request, repatriation of the human remains and associated funerary objects in this notice may occur on or after January 16, 2026.

ADDRESSES: Send written requests for repatriation of the human remains and associated funerary objects in this notice to Anita L. Benedict, Baylor University's Mayborn Museum Complex, One Bear Place #97154, Waco, TX 76798-7154, email anita_benedict@baylor.edu.

SUPPLEMENTARY INFORMATION: This notice is published as part of the National Park Service's administrative responsibilities under NAGPRA. The determinations in this notice are the sole responsibility of Baylor University's Mayborn Museum Complex, and additional information on the determinations in this notice, including the results of consultation, can be found in its inventory or related records. The National Park Service is not responsible for the determinations in this notice.

Abstract of Information Available

Human remains representing, at least, one individual have been identified. The five associated funerary objects are one animal tooth; one mussel valve; one (possibly pumice) rock; one lot of snail shells; and one small black, cone-shaped piece of wood. The human remains were removed from Valley Mills, Coryell County, Texas, on an unknown date and donated to Baylor University's Mayborn Museum Complex (formerly the Strecker Museum) in 1995. Baylor University's Mayborn Museum Complex has no knowledge or record of the presence of any potentially hazardous substances used to treat the human remains and associated funerary objects.

Human remains representing, at least, one individual have been identified. The 19 associated funerary objects are one possible toe or small animal bone; one fossil bivalve shell; one modern bivalve shell; one calcite mineral; one animal cranium and mandible (small mammal); one gypsum mineral; one piece of petrified wood; one lot of smoky quartz crystals; eight stone tools; one boar tusk; one unknown mineral; and one worked rock. The human remains were removed from an unknown location in Texas on an unknown date and donated to Baylor University's Mayborn Museum Complex (formerly the Strecker Museum) in 1995. Baylor University's Mayborn Museum Complex has no knowledge or record of the presence of any potentially hazardous substances used to treat the human remains and associated funerary objects.

Consultation

Invitations to consult were sent to the Absentee-Shawnee Tribe of Indians of Oklahoma; Alabama-Coushatta Tribe of Texas; Alabama-Quassarte Tribal Town; Apache Tribe of Oklahoma; Caddo Nation of Oklahoma; Cherokee Nation; Cheyenne and Arapaho Tribes, Oklahoma; Comanche Nation, Oklahoma; Coushatta Tribe of Louisiana; Delaware Nation, Oklahoma; Eastern Band of Cherokee Indians; Eastern Shawnee Tribe of Oklahoma; Fort McDowell Yavapai Nation, Arizona; Fort Sill Apache Tribe of Oklahoma; Jena Band of Choctaw Indians; Jicarilla Apache Nation, New Mexico; Kialegee Tribal Town; Kickapoo Traditional Tribe of Texas; Kickapoo Tribe of Indians of the Kickapoo Reservation in Kansas; Kickapoo Tribe of Oklahoma; Kiowa Indian Tribe of Oklahoma; Mescalero Apache Tribe of the Mescalero Reservation, New Mexico; Mississippi Band of Choctaw Indians; Northern Arapaho Tribe of the Wind River Reservation, Wyoming; Northern Cheyenne Tribe of the Northern Cheyenne Indian Reservation, Montana; Poarch Band of Creek Indians; San Carlos Apache Tribe of the San Carlos Reservation, Arizona; Shawnee Tribe; The Chickasaw Nation; The Choctaw Nation of Oklahoma; The Muscogee (Creek) Nation; The Osage Nation; Thlopthlocco Tribal Town; Tonkawa Tribe of Indians of Oklahoma; Tonto Apache Tribe of Arizona; Tunica-Biloxi Indian Tribe; United Keetoowah Band of Cherokee Indians in Oklahoma; White Mountain Apache Tribe of the Fort Apache Reservation, Arizona; Wichita and Affiliated Tribes (Wichita, Keechi, Waco, & Tawakonie), Oklahoma; Yavapai-Apache Nation of the Camp Verde Indian Reservation, Arizona; and the Ysleta del Sur Pueblo.

The following Indian Tribes responded to the invitation but did not participate in consultation: the Caddo Nation of Oklahoma; Cherokee Nation; Delaware Nation, Oklahoma; Eastern Band of Cherokee Indians; Jicarilla Apache Nation, New Mexico; Kickapoo Tribe of Oklahoma; Mississippi Band of Choctaw Indians; Northern Cheyenne Tribe of the Northern Cheyenne Indian Reservation, Montana; Shawnee Tribe; The Choctaw Nation of Oklahoma; The Muscogee (Creek) Nation; White Mountain Apache Tribe of the Fort Apache Reservation, Arizona; Yavapai-Apache Nation of the Camp Verde Indian Reservation, Arizona; and the Ysleta del Sur Pueblo.

The Indian Tribes who participated in consultations include: the Cheyenne and Arapaho Tribes, Oklahoma; Comanche Nation, Oklahoma; Kiowa Indian Tribe of Oklahoma; and the Tonkawa Tribe of Indians of Oklahoma.

Cultural Affiliation

The following types of information about the cultural affiliation of the human remains and associated funerary objects in this notice are available: geographical. The information, including the results of consultation, identified:

1. No earlier group connected to the human remains or associated funerary object.

2. No Indian Tribe or Native Hawaiian organization connected to the human remains or associated funerary objects.

3. No relationship of shared group identity between the earlier group and the Indian Tribe or Native Hawaiian organization that can be reasonably traced through time.

Determinations

Baylor University's Mayborn Museum Complex has determined that:

• The human remains described in this notice represent the physical remains of two individuals of Native American ancestry.

• The 24 objects described in this notice are reasonably believed to have been placed intentionally with or near individual human remains at the time of death or later as part of the death rite or ceremony.

• No known lineal descendant who can trace ancestry to the human remains and associated funerary objects in this notice has been identified.

• No Indian Tribe or Native Hawaiian organization with cultural affiliation to the human remains and associated funerary objects described in this notice has been clearly or reasonably identified.

Requests for Repatriation

Written requests for repatriation of the human remains and associated funerary objects in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains and associated funerary objects described in this notice to a requestor may occur on or after January 16, 2026. If competing requests for repatriation are received, Baylor University's Mayborn Museum Complex must determine the most appropriate requestor prior to repatriation. Requests for joint repatriation of the human remains and associated funerary objects are considered a single request and not competing requests. Baylor University's Mayborn Museum Complex is responsible for sending a copy of this notice to the Indian Tribes or Native Hawaiian organizations identified in this notice.

Authority: Native American Graves Protection and Repatriation Act, 25 U.S.C. 3003, and the implementing regulations, 43 CFR 10.10.

Dated: November 24, 2025.
Melanie O'Brien,
Manager, National NAGPRA Program.

[FR Doc. 2025-23025 Filed 12-16-25; 8:45 am]

BILLING CODE 4312-52-P